DEPARTMENT OF THE INTERIOR

Bureau of Land Management

[ID 100 1150MA 241A: DBG081011]

Notice of Public Meeting: Resource Advisory Council to the Boise District, Bureau of Land Management, U.S. Department of the Interior

AGENCY: Bureau of Land Management, U.S. Department of the Interior.

ACTION: Notice of Public Meeting.

SUMMARY: In accordance with the Federal Land Policy and Management Act (FLPMA) and the Federal Advisory Committee Act of 1972 (FACA), the U.S. Department of the Interior, Bureau of Land Management (BLM) Boise District Resource Advisory Council (RAC), will hold a meeting as indicated below.

DATES: The meeting will be held September 25, 2008 at the Boise District Offices beginning at 9 a.m. and adjourning at 4 p.m. Members of the public are invited to attend, and comment periods will be held during the course of the day.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. A discussion will be held on the environmental assessment (EA) for the Murphy Creek Sub-region Travel Management Plan for the Owyhee Field Office. Copies of the EA will have been mailed to the members prior to the meeting. An update on development of the Four Rivers Field Office Resource Management Plan (RMP) will be given. Feedback will be requested on issues identified during the scoping period for the development of the environmental impact statement for the Four Rivers Field Office RMP. A briefing will be provided on the outcome of the public meetings and other outreach regarding BLM's announcement of route restrictions in the King Hill Creek Wilderness Study Area that RAC members toured in July. Hot Topics will be discussed by the District Manager, and Field Office managers will provide highlights on activities in their offices. Agenda items and location may change due to changing circumstances. All meetings are open to the public. The public may present written comments to the Council. Each formal Council meeting will also have time allocated for hearing public comments. Depending on the number of persons wishing to comment and time available, the time for individual oral comments may be limited. Individuals who plan to attend and need special assistance, such as sign language interpretation, or other reasonable accommodations, should contact the BLM Coordinator as provided above.

Dated: August 21, 2008.
David Wolf,
Associate, District Manager.

[FR Doc. E8-19969 Filed 8-27-08; 8:45 am]

BILLING CODE 4310-GG-P